NUCLEAR REGULATORY COMMISSION

[Docket No. EA-23-083; NRC-2023-0142]

Order Suspending General License Authority To Export Special Nuclear Material, Source Material, and Deuterium for Nuclear End Use to the People's Republic of China

AGENCY: Nuclear Regulatory Commission.

ACTION: Order; issuance.

SUMMARY: The U.S. Nuclear Regulatory Commission (NRC) is issuing an Order suspending the general license authority under NRC regulations to export special nuclear material, source material, and deuterium for nuclear end use to the People's Republic of China. Exporters are no longer authorized to use the general license to export special nuclear material, source material, or deuterium for nuclear end use to the People's Republic of China and now must apply for a specific license in accordance with NRC regulations.

DATES: This Order is effective immediately.

ADDRESSES: Please refer to Docket ID NRC-2023-0142 when contacting the NRC about the availability of information regarding this document. You may obtain publicly available information related to this document using any of the following methods:

• Federal Rulemaking website: Go to https://www.regulations.gov and search for Docket ID NRC-2023-0142. Address questions about Docket IDs in Regulations.gov to Stacy Schumann; telephone: 301-415-0624; email: Stacy.schumann@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Office of International Programs, U.S. Nuclear Regulatory Commission, Washington, DC 20555-0001, telephone: 301-287-9241, email: IP.Resource@nrc.gov.

SUPPLEMENTARY INFORMATION: The text of the Order is attached.

Dated: August 9, 2023.
For the Nuclear Regulatory Commission.
David L. Skeen,
Director, Office of International Programs.

Attachment—Order

In the Matter of General License Holders

EA-23-083

ORDER SUSPENDING GENERAL LICENSE AUTHORITY TO EXPORT SPECIAL NUCLEAR MATERIAL, SOURCE MATERIAL, AND DEUTERIUM FOR NUCLEAR END USE TO THE PEOPLE'S REPUBLIC OF CHINA

(Effective Immediately)

The licensees that are subject to this order are authorized by the NRC through the general licenses granted in title 10 of the Code of Federal Regulations (CFR) sections 110.21, 110.22, and 110.24, pursuant to Sections 54, 64, and 109b of the Atomic Energy Act of 1954, as amended (AEA), to export special nuclear material, source material, and deuterium for nuclear end use to the People's Republic of China.

The Executive Branch of the United States Government has determined that suspending the general license authority under 10 CFR part 110 for exports of special nuclear material, source material, and deuterium for nuclear end use to the People's Republic of China is necessary to improve oversight and control of these exports. For this reason, the Executive Branch has requested that the NRC suspend the general license authority in 10 CFR 110.21, 110.22, and 110.24 for any exports to destinations in the People's Republic of China. It is the view of the Executive Branch that this action is necessary to further the national security interests of the United States and to enhance the common defense and security, and is consistent with the Atomic Energy Act of 1954, as amended.

Accordingly, pursuant to Sections 161b., 161i., 183, and 186 of the AEA, 10 CFR 110.20 (b) and (f) and 10 CFR 110.50(a)(1) and (2), NRC general license authority to export special nuclear material, source material, and deuterium for nuclear end use to the People's Republic of China under Sections 54, 64, and 109b of the AEA and 10 CFR 110.21, 110.22, and 110.24 is suspended, effective immediately.¹ This suspension will remain in effect until further notice. Any person wishing to export special nuclear material, source material, or deuterium for nuclear end use to the People's Republic of China must apply for a specific license in accordance with 10 CFR 110.31.

¹ This order does not affect the previous NRC order suspending general license authority to export radioactive material and deuterium to China General Nuclear (CGN), its subsidiaries, or related entities, published in the Federal Register on October 1, 2021 (86 FR 54487), which remains in effect.

For the Nuclear Regulatory Commission.

/RA/

David L. Skeen,

Director, Office of International Programs.

Dated at Rockville, Maryland this 8th day of August 2023.

[FR Doc. 2023-17394 Filed 8-11-23; 8:45 am]

BILLING CODE 7590-01-P